DEPARTMENT OF INTERIOR

National Park Service

[NPS-AKR-WRST-0212-9428; 98651C01SZP]

Wilderness Eligibility Reclassifications, Wrangell-St. Elias National Park and Preserve

AGENCY: National Park Service, Interior.

ACTION: Notice of Wilderness Eligibility Reclassification, Wrangell-St. Elias National Park and Preserve.

SUMMARY: Wrangell-St. Elias National Park and Preserve has completed an analysis per NPS Management Policies 2006 6.2.1 for the reclassification of lands currently deemed to be eligible wilderness based on the 1986 eligibility review conducted as part of the park's General Management Plan (GMP). National Park Service (NPS) solicited public comments on the proposed reclassification as part of the Nabesna Off-Road Vehicle Management Plan/Draft Environmental Impact Statement (DEIS) and as a part of the McCarthy Communications Sites Environmental Assessment (EA). The NPS Director approved the wilderness eligibility reclassifications. The reclassification resulted in the following. For the Nabesna District: (1) motorized trail corridors in existence prior to 1986 were classified as ineligible; and (2) a net gain in eligible acres within the analysis area of 16,929 acres. For the McCarthy Road corridor: (1) The reclassification of 667 acres of wilderness eligible lands in the analysis area to ineligible status; and (2) the construction of telecommunication facilities on lands now deemed to be ineligible.

ADDRESSES: Hard copies of the Nabesna Off-Road Vehicle Management Plan/Final Environmental Impact Statement (FEIS) and the McCarthy Communications Sites Environmental Assessment (EA) are available on the NPS Planning, Environment, and Public Comment (PEPC) Web site at http://parkplanning.nps.gov/WRST. They can also be obtained at park headquarters (Wrangell-St. Elias National Park and Preserve, Mile 106.8 Richardson Highway, Copper Center, Alaska) or may be requested from Bruce Rogers, Project Manager, Wrangell-St. Elias National Park and Preserve, P.O. Box 439, Copper Center, Alaska 99573. A detailed description, including maps, of the wilderness eligibility reclassifications can be found in the appendices of these documents.

SUPPLEMENTARY INFORMATION: The wilderness eligibility reclassification addresses inconsistencies between the eligibility criteria and mapping presented in the 1986 GMP:

• Some areas mapped as ineligible meet the criteria for eligibility. For the Nabesna District, the large ineligible area between the Tanada Lake and Copper Lake trails has not been impacted by trail use nor was it in 1986. This area has been reclassified as eligible.

• Some areas mapped as eligible do not meet the criteria for eligibility. In the Nabesna District, trails that were “improved or regularly used” or had impacts associated with them in 1986 should be reclassified as ineligible. Along the McCarthy Road corridor, the Gilahina Butte site was incorrectly determined to be eligible in 1986 despite the fact that it was already “improved or regularly used.”

• “Federal lands under application” were listed as ineligible for wilderness in the 1986 GMP. Some lands in this category have been retained in federal ownership and now meet the criteria for eligibility.

For the Nabesna District, the reclassification proposal was described in the Nabesna Off-Road Vehicle Management Plan/Draft Environmental Impact Statement (DEIS) as part of the preferred alternative and again in the FEIS. For the McCarthy Road corridor, the reclassification proposal was included in the McCarthy Communications Sites Environmental Assessment (EA). Public comment was taken into consideration in the approval of these wilderness eligibility reclassifications.

FOR FURTHER INFORMATION CONTACT: Bruce Rogers, Project Manager, Wrangell-St. Elias National Park and Preserve, P.O. Box 439, Copper Center, Alaska 99573. Telephone: 907-822-7276.

Sue E. Masica,
Regional Director, Alaska.

[FR Doc. 2012-9119 Filed 4-16-12; 8:45 am]

BILLING CODE 4312-HC-P